DEPARTMENT OF AGRICULTURE

Food Safety and Inspection Service

[Docket No. 00-016N]

Notice of Public Meeting: Revised Action Plan for the Control of Listeria monocytogenes for the Prevention of the Foodborne Illness Listeriosis

AGENCY: Food Safety and Inspection Service, USDA.

ACTION: Notice of public meeting; request for comment.

SUMMARY: The Food Safety and Inspection Service (FSIS) will hold a public meeting to discuss and receive public comment regarding Listeria monocytogenes (Lm). The purpose of the meeting is to discuss the initiatives the Agency took after its February 1999 public meeting on Lm and the Agency's future plans to further protect the public from foodborne illnesses associated with Lm. The Agency also invites data and public comment on Lm.

DATE: The meeting will be held May 15, 2000, from 9 a.m. to 5 p.m. Written comments must be received by June 7, 2000.

ADDRESSES: The meeting will be held at the Holiday Inn—Washington, DC on the Hill, 415 New Jersey Avenue, NW., Washington, DC 20001, telephone number is 202-638-1616.

To register for the meeting and to schedule a presentation, contact Mary Harris, FSIS, by telephone (202) 501-7136 or FAX (202) 501-7642. If a sign language interpreter or other special accommodation is necessary, contact Ms. Harris at the above number.

Submit one original and two copies of written comments to: FSIS Docket Clerk, Docket #00-016N, Room 102 Cotton Annex, 300 12th Street, SW., Washington, DC 20250-3700. All comments received in response to this notice will be considered part of the public record and will be available for viewing in the FSIS Docket Room between 8:30 a.m. and 4:30 p.m., Monday through Friday.

FOR FURTHER INFORMATION CONTACT: Judith Riggins, Associate Deputy Administrator, Office of Policy, Program Development and Evaluation, by telephone (202) 720-2709 or Fax (202) 720-2025.

SUPPLEMENTARY INFORMATION: Listeria monocytogenes (Lm) is found in soil and water and can contaminate a variety of raw foods, such as uncooked meats and vegetables, as well as foods that become contaminated after processing, such as soft cheeses, and cold cuts. Consumption of food contaminated with Lm can cause listeriosis, an uncommon but potentially fatal disease, that can lead to serious and sometimes fatal infections in pregnant women, newborns, the elderly, and persons with weakened immune systems, such as those with a chronic disease, an HIV infection, or who are undergoing chemotherapy treatment.

FSIS considers Lm to be an adulterant in ready-to-eat (RTE) meat and poultry products. FSIS has established and enforces a zero tolerance (no detectable level permitted) for this pathogen in RTE products. Since 1989, FSIS has conducted a monitoring program within plants to test for Lm in certain ready-to-eat (RTE) products such as hot dogs and luncheon meats. FSIS analyzes approximately 3,500 samples for Lm each year. The following product categories are included in the monitoring program: (1) Beef jerkey, (2) roast beef, cooked beef, and cooked corned beef, (3) sliced ham and luncheon meat, (4) small-diameter sausage, (5) large-diameter sausage, (6) cooked, uncured poultry, (7) salads and spreads, and (8) dry and semi-dry fermented sausage.

Out of 3,547 samples of RTE meat and poultry products analyzed in calendar year 1998 through the monitoring program, 90 samples, or approximately 2.5 percent, tested positive for Lm. FSIS sampling of just hot dogs from 1993 to 1996 showed that approximately 4.4 percent of the samples were positive for Lm. FSIS' monitoring program, implemented before pathogen reduction and HACCP implementation, was intended to encourage industry process control and validation. However, this program was not statistically designed and thus information obtained from it cannot be used to make determinations about Listeria contamination on a nationwide basis.

To gather information on Lm and listeriosis associated with RTE meat and poultry products, FSIS held a public meeting on February 10, 1999 (64 FR 5629). The Agency held this meeting in response to a large outbreak of listeriosis that occurred in late 1998/early 1999 that was attributed to bacteria in a RTE meat or poultry product and several recalls of Lm adulterated meat and poultry products. At this meeting, experts from FSIS, Centers for Disease Control (CDC), and the Food and Drug Administration (FDA), as well as industry groups and consumer groups shared foodborne illness and product contamination statistics on Lm, as well as information about on-going research projects and future research needs for Lm, testing programs for Lm, and educational efforts about Lm. At the meeting, FSIS also discussed its zero tolerance policy regarding Lm in RTE meat and poultry products.

In May of 1999, FSIS Administrator Tom Billy announced an action plan comprised of a number of initiatives that FSIS was undertaking to reduce the risk of foodborne illness attributed to Lm. The action plan for the control of Lm was based on the information obtained at the February 1999 public meeting as well as other information obtained by FSIS. The initiatives set forth in the action plan included near-term and long-term activities that involved all programs of the Agency, as well as interagency activities. Some of these activities included issuing a Federal Register notice (64 FR 28351) advising manufacturers of RTE meat and poultry products of the need to reassess their HACCP plans to ensure that the plans were adequately addressing Lm, developing consumer education material targeted to reach individuals at an increased risk for developing listeriosis, developing guidance material for the regulated industry on practices that have been used successfully by meat and poultry establishments to prevent the occurrence of Lm in RTE products, conducting a study on the post production growth of Lm, and working with FDA to conduct a risk assessment for Lm.

FSIS has now revised its action plan for the control of Lm based on its analysis of the comments and data received in response to the February 1999 public meeting, recommendations of the National Advisory Committee on Meat and Poultry Inspection and the National Advisory Committee on Microbiological Criteria for Foods, a petition received in January 2000 from the Center for Science in the Public Interest (CSPI), and the work of an interdisciplinary Agency working group.

To update the public on the initiatives undertaken and to provide the public with FSIS' revised action plan for the control of Lm, FSIS will hold a public meeting on May 15, 2000. FSIS requests additional data on Lm and public comment on the revised action plan. Some of the topics to be discussed at the May 15 meeting are:

• The public health impact of foodborne Lm contamination;

• The results of FSIS's review of what establishments did in response to its May 1999 Federal Register notice on reassessment of HACCP plans to ensure that they adequately address Lm;

• The revised instructions to be issued to field employees regarding the testing and sampling of RTE products;

• The petition received by FSIS from CSPI, (copies are available in the FSIS Docket Clerk's office, See ADDRESSES);

• Consumer education about Lm; and

• Research on Lm.

The agenda for the public meeting will be available on the FSIS homepage, www.usda.fsis.gov and at the meeting.

Representatives from government, industry groups, consumer groups, and academia will lead the discussions. There will be time at the end of the meeting for general public comment. However, attendees must sign-up in advance to speak during the public comment session. The sign-up sheet will be at the meeting. Time allotted for comment will be approximately 5 minutes for each participant, but will depend on the number of people participating.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC, on: May 3, 2000.
Thomas J. Billy,
Administrator.

[FR Doc. 00-11419 Filed 5-5-00; 8:45 am]

BILLING CODE 3410-DM-P